DEPARTMENT OF THE INTERIOR

Bureau of Land Management

[OR-958-1430-ET; HAG-04-0071; WAOR-57423]

Public Land Order No. 7614; Withdrawal of National Forest System Lands for the Halliday Fen Research Natural Area; Washington

AGENCY: Bureau of Land Management, Interior.

ACTION: Public Land Order.

SUMMARY: This order withdraws 646.40 acres of National Forest System lands from location and entry under the United States mining laws for a period of 20 years to protect a portion of the Halliday Fen Research Natural Area.

DATES: Effective September 10, 2004.

FOR FURTHER INFORMATION CONTACT: Kathy Ahlenslager, Botanist, Colville National Forest, 509-684-7178, or Charles R. Roy, BLM Oregon/Washington State Office, 503-808-6189.

Order

By virtue of the authority vested in the Secretary of the Interior by Section 204 of the Federal Land Policy and Management Act of 1976, 43 U.S.C. 1714 (2000), it is ordered as follows:

1. Subject to valid existing rights, the following described National Forest System land is hereby withdrawn from location and entry under the United States mining laws 30 U.S.C. Ch. 2 (2000), to protect the unique characteristics, sensitive fauna, hydrology, and the research values within the Halliday Fen Research Natural Area:

Colville National Forest

Willamette Meridian

T. 40 N., R. 44 E.,

Sec. 31, W½NE¼, SE¼NE¼, SE¼NW¼, E½SW¼, and NW¼SE¼.

Portions of the following lands as specifically identified and described by metes and bounds in the “Boundary Description for Halliday Fen Research Natural Area to be Withdrawn from Mineral Location” dated April 19, 2002, in the official records of the Bureau of Land Management, Oregon/Washington State Office and the Colville National Forest Office, Colville, Washington:

T. 39 N., R. 43 E.,

Sec. 1, lot 1.

T. 40 N., R. 43 E.,

Sec. 36, SE¼SE¼.

T. 39 N., R. 44 E.,

Sc. 6, lots 2 through 5, inclusive.

T. 40 N., R. 44 E.,

Sec. 30, NW¼SE¼, SE¼SW¼, and S½SE¼;

Sec. 31, lots 2, 3, 4, NE¼NE¼, NE¼NW¼, NE¼SE¼, and S½SE¼;

Sec. 32, W½W½.

The areas described aggregate 646.40 acres in Pend Oreille County.

2. This withdrawal will expire 20 years from the effective date of this order unless, as a result of a review conducted before the expiration date pursuant to Section 204(f) of the Federal Land Policy and Management Act of 1976, 43 U.S.C. 1714(f) (2000), the Secretary determines that the withdrawal shall be extended.

Dated: September 8, 2004.
Rebecca W. Watson,
Assistant Secretary—Land and Minerals Management.

[FR Doc. 04-20760 Filed 9-10-04; 12:24 pm]

BILLING CODE 4310-33-P